DEPARTMENT OF LABOR

Employment and Training Administration

[NAFTA-07609]

GE Transportation Systems, Global Signaling LLC, Warrensburg, MO; Notice of Termination of Investigation

Pursuant to Title V of the North American Free Trade Agreement Implementation Act (Pub. L. 103-182) concerning transitional adjustment assistance, hereinafter called (NAFTA-TAA), and in accordance with section 250(a), subchapter D, chapter 2, Title II, of the Trade Act of 1974, as amended (19 U.S.C. 2273), an investigation was initiated on October 7, 2002, in response to a petition filed by a company official on behalf of workers at GE Transportation Systems Global Signaling LLC, Warrensburg, Missouri.

The petitioner has requested that the petition be withdrawn. Consequently, further investigation in this case would serve no purpose and the investigation has been terminated.

Signed at Washington, DC, this 15th day of November, 2002.
Elliott S. Kushner,
Certifying Officer, Division of Trade Adjustment Assistance.

[FR Doc. 02-30181 Filed 11-27-02; 8:45 am]

BILLING CODE 4510-30-P